Title 3—

The President

Proclamation 8547 of August 20, 2010

Minority Enterprise Development Week, 2010

By the President of the United States of America

A Proclamation

Since our Nation’s founding, the United States has been a beacon of economic opportunity and limitless possibility. America’s strength and resiliency have relied on the vision of our entrepreneurs and small business owners, whose tireless work ethic has defined the character of our country. During Minority Enterprise Development Week, we celebrate the millions of minority business owners whose firms generate jobs, strengthen our economy, and embody the entrepreneurial spirit of America.

Even in the toughest of times, America has been characterized by the belief that anyone with a good idea and enough hard work can succeed and share those achievements with their employees and communities. Today, as we emerge from a historic recession, many families and businesses face difficult economic challenges, and we must continue to prioritize job creation as part of a sustained recovery that works for all Americans. Minority-owned and operated enterprises are essential to stabilizing our economy now, and laying a foundation for future economic growth and prosperity.

Looking forward, we must continue to remove barriers so these businesses can create new employment opportunities, increase their capacity, and advance our long-term prosperity. To achieve this goal, my Administration is committed to taking concrete steps to increase Government procurement opportunities for small and minority businesses. By unleashing the energy and ingenuity of American entrepreneurs in the domestic and international marketplaces, we can generate millions of jobs here at home, open and expand new markets, reduce barriers to trade, and ensure strong and balanced economic growth. As America competes in the global economy, it is vital we capitalize on the dedication, creativity, and acumen shown by our minority business owners and their employees. Through the National Export Initiative, my Administration is teaming with American businesses to double our exports over the next 5 years. The skills and leadership of minority business owners and employees will be critical as our public servants and business leaders develop the linguistic capabilities, cultural competencies, and international partnerships needed in a 21st century economy.

Minority Enterprise Development Week is anchored by the American legacy of entrepreneurial ambition and innovation. As we honor minority enterprises, their industrious owners, and their hard-working employees, let us also recognize the diversity, determination, insight, and innovation of American businesses, and the immeasurable support they lend to our leadership in the global marketplace.

NOW, THEREFORE, I, BARACK OBAMA, President of the United States of America, by virtue of the authority vested in me by the Constitution and the laws of the United States, do hereby proclaim August 22 through August 28, 2010, as Minority Enterprise Development Week. I call upon all Americans to celebrate this week with appropriate programs, ceremonies, and activities to recognize the many contributions of our Nation’s minority enterprises.

IN WITNESS WHEREOF, I have hereunto set my hand this twentieth day of August, in the year of our Lord two thousand ten, and of the Independence of the United States of America the two hundred and thirty-fifth.

[FR Doc. 2010-21294

Filed 8-24-10; 8:45 am]

Billing code 3195-W0-P